DEPARTMENT OF THE TREASURY

Office of the Comptroller of the Currency

12 CFR Part 3

[Docket No. 02-04]

RIN 1557-AB14

FEDERAL RESERVE SYSTEM

12 CFR Parts 208 and 225

[Regulations H and Y; Docket No. R-1085]

FEDERAL DEPOSIT INSURANCE CORPORATION

12 CFR Part 325

RIN 3064-AC17

DEPARTMENT OF THE TREASURY

Office of Thrift Supervision

12 CFR Part 567

[No. 2002-5]

RIN 1550-AB11

Risk-Based Capital Standards: Claims on Securities Firms

AGENCIES: Office of the Comptroller of the Currency, Treasury (OCC); Board of Governors of the Federal Reserve System (Board); Federal Deposit Insurance Corporation (FDIC); and Office of Thrift Supervision, Treasury (OTS).

ACTION: Final rule; correction.

SUMMARY: On April 9, 2002, the OCC, Board, FDIC, and OTS (collectively, the Agencies) published a final rule in the Federal Register. The final rule amended the Agencies' risk-based capital standards for banks, bank holding companies, and savings associations (collectively, institutions or banking organizations) with regard to the risk weighting of claims on, and claims guaranteed by, qualifying securities firms. This document clarifies the effective date of the rule, corrects errors made in the Supplementary Information section and in the Board's Regulation Y, and makes technical changes to the footnote numbers in the instructions to and text of the FDIC's Part 325.

DATES: The corrections made in this document are effective July 1, 2002 (i.e., the effective date of the final rule), but institutions may elect to apply the final rule before that date consistent with the discussion in the Supplementary Information section below.

FOR FURTHER INFORMATION CONTACT: OCC: Margot Schwadron, Risk Expert (202/874-5070), Capital Policy Division; or Ron Shimabukuro, Counsel (202/874-5090), Legislative and Regulatory Activities Division, Office of the Comptroller of the Currency, 250 E Street, SW, Washington, DC 20219.

Board: Norah Barger, Deputy Associate Director (202/452-2402), Barbara Bouchard, Assistant Director (202/452-3072), or John F. Connolly, Supervisory Financial Analyst (202/452-3621), Division of Banking Supervision and Regulation; or Mark E. Van Der Weide, Counsel (202/452-2263), Legal Division, Board of Governors of the Federal Reserve System, 20th Street and Constitution Avenue, NW, Washington, DC 20551. For users of Telecommunications Device for the Deaf (“TDD”) only, contact 202/263-4869.

FDIC: For supervisory issues, Stephen G. Pfeifer, Examination Specialist (202/898-8904), Accounting Section, Division of Supervision; for legal issues, Leslie Sallberg, Counsel, (202/898-8876), Legal Division, Federal Deposit Insurance Corporation, 550 17th Street, NW, Washington, DC 20429.

OTS: David W. Riley, Project Manager, (202/906-6669), Supervision Policy; Teresa A. Scott, Counsel, Banking and Finance (202/906-6478), Regulations and Legislation Division, Office of the Chief Counsel, Office of Thrift Supervision, 1700 G Street, NW, Washington, DC 20552.

SUPPLEMENTARY INFORMATION: This document clarifies the effective date of the rule and corrects errors in the joint final rule published in the Federal Register by the Agencies on April 9, 2002 (67 FR 16971). The language regarding voluntary early application of the final rule is clarified in the DATES section. In addition, the phrase “or guaranteed by” is removed from one sentence in the Supplementary Information section. This same deletion is made from one sentence in the Board's Regulation Y amendment (12 CFR 225, Appendix A, III.C.2.d.) and a conforming edit is made in the same sentence. These deletions eliminate an inconsistency in the Supplementary Information section and in the Agencies' final rules. Additionally, a paragraph inadvertently duplicated in the Board's Regulation Y (12 CFR part 225, Appendix A, Attachment III, Category 2: 20 Percent) is removed. This document also revises references to certain footnote numbers in the Federal Register instructions to and text of the Federal Deposit Insurance Corporation's revisions to its regulatory capital rules (12 CFR part 325, Appendix A).

In the final rule FR Doc. 02-8142, published on April 9, 2002, (67 FR 16971) make the following corrections:

1. In the DATES section on page 16971, in the third column, revise the second sentence to read “The Agencies will not object if an institution wishes to apply the provisions of this final rule beginning with its March or June 2002 regulatory reports to the Agencies.”

2. In the SUPPLEMENTARY INFORMATION section on page 16975, in the third complete sentence in the second column, remove the phrase “, or guaranteed by,” after the phrase “a collateralized claim on”.

Appendix A to Part 225 [Corrected]

3. On page 16978, in the first column, correct the third sentence of Section III.C.2.d. by removing the phrase “collateralized claims” and substituting the phrase “a collateralized claim” and by removing the phrase “, or guaranteed by,” after the phrase “collateralized claims on”.

4. On page 16978, at the top of the third column, remove paragraph 4.

Appendix A to Part 325—Statement of Policy on Risk-Based Capital [Corrected]

5. On page 16978, in the third column, correct amendatory instruction 2.b. by removing “Redesignate footnotes 27 through 47 as footnotes 30 through 50” and substituting “Redesignate footnotes 31 through 47 as footnotes 34 through 50.”

6. On page 16978, in the third column, correct amendatory instruction 2.c. by removing “Add new footnotes 27 through 29” and substituting “Add new footnotes 31 through 33.”

7. On page 16979, in the first column, under Category 2—20 Percent Risk Weight, remove the references to footnotes 27 and 28 in the rule text and footnotes and replace them with references to footnotes 31 and 32, respectively.

8. On page 16979, in the second column, under Category 2—20 Percent Risk Weight, remove the references to footnote 29 in the rule text and footnotes and replace them with references to footnote 33.

Dated: May 3, 2002.
John D. Hawke, Jr.,
Comptroller of the Currency.
By order of the Board of Governors of the Federal Reserve System, May 3, 2002.
Jennifer J. Johnson,
Secretary of the Board.
Dated at Washington, DC, this 1st day of May, 2002.
By order of the Board of Directors.
Federal Deposit Insurance Corporation.
Robert E. Feldman,
Executive Secretary.
Dated: May 8, 2002.
By the Office of Thrift Supervision
Richard M. Riccobono,
Deputy Director.

[FR Doc. 02-12363 Filed 5-16-02; 8:45 am]

BILLING CODE 4810-33-P; 6210-01-P; 6714-01-P; 6720-01-P